DEPARTMENT OF COMMERCE

International Trade Administration

[C-570-078]

Large Diameter Welded Pipe From the People's Republic of China: Final Results of the Expedited First Sunset Review of the Countervailing Duty Order

AGENCY: Enforcement and Compliance, International Trade Administration, Department of Commerce.

SUMMARY: The U.S. Department of Commerce (Commerce) finds that revocation of the countervailing duty (CVD) order on large diameter welded pipe from the People's Republic of China (China) would be likely to lead to continuation or recurrence of countervailable subsidies at the levels indicated in the “Final Results of Review” section of this notice.

DATES: Applicable June 6, 2024.

FOR FURTHER INFORMATION CONTACT: Robert Galantucci, AD/CVD Operations, Office V, Enforcement and Compliance, International Trade Administration, U.S. Department of Commerce, 1401 Constitution Avenue NW, Washington, DC 20230; telephone: (202) 482-2923.

SUPPLEMENTARY INFORMATION:

Background

On March 6, 2019, Commerce published in the Federal Register the CVD order on large diameter welded pipe from China.¹ On February 1, 2024, Commerce published the notice of initiation of a sunset review of the Order, pursuant to section 751(c) of the Tariff Act of 1930, as amended (the Act).² On February 16, 2024, Commerce received a notice of intent to participate from the American Line Pipe Producers Association Trade Committee (ALPPA Trade Committee) within the deadline specified in 19 CFR 351.218(d)(1)(i).³ The ALPPA Trade Committee claimed interested party status under section 771(9)(F) of the Act as a trade or business association of which a majority of the members are producers of domestic like product.

¹ See Large Diameter Welded Pipe from the People's Republic of China: Countervailing Duty Order, 84 FR 8075 (March 6, 2019) (Order).

² See Initiation of Five-Year (Sunset) Reviews, 89 FR 6499 (February 1, 2024).

³ See ALPPA Trade Committee's Letter, “Notice of Intent to Participate in Sunset Review,” dated February 16, 2024.

Commerce received an adequate substantive response to the notice of initiation from the ALPPA Trade Committee within the 30-day deadline specified in 19 CFR 351.218(d)(3)(i).⁴ We received no substantive responses from any respondent interested parties, including the Government of China, nor was a hearing requested. On March 22, 2024, consistent with 19 CFR 351.218(e)(1)(ii)(B)(2) and (e)(1)(ii)(C)(2), Commerce notified the U.S. International Trade Commission that it did not receive an adequate substantive response from respondent interested parties.⁵ As a result, pursuant to 751(c)(3)(B) of the Act and 19 CFR 351.218(e)(1)(ii)(B)(2) and (C)(2), Commerce conducted an expedited (120-day) sunset review of the Order.

⁴ See ALPPA Trade Committee's Letter, “Substantive Response to Notice of Initiation,” dated March 4, 2024.

⁵ See Commerce's Letter, “Sunset Reviews for February 2024,” dated March 22, 2024.

Scope of the Order

The product covered by the Order is large diameter welded pipe. For a complete description of the scope of the Order, see the Issues and Decision Memorandum.⁶

⁶ See Memorandum, “Decision Memorandum for the Final Results of the Expedited First Sunset Review of the Countervailing Duty Order on Large Diameter Welded Pipe from the People's Republic of China,” dated concurrently with this notice (Issues and Decision Memorandum).

Analysis of Comments Received

All issues raised in this sunset review are addressed in the Issues and Decision Memorandum.⁷ A list of topics discussed in the Issues and Decision Memorandum is included as an appendix to this notice. The Issues and Decision Memorandum is a public document and is on file electronically via Enforcement and Compliance's Antidumping and Countervailing Duty Centralized Electronic Services System (ACCESS). ACCESS is available to registered users at https://access.trade.gov. In addition, a complete version of the Issues and Decision Memorandum can be accessed directly at https://access.trade.gov/public/FRNoticesListLayout.aspx.

⁷ Id.

Final Results of Sunset Review

Pursuant to sections 751(c)(1) and 752(b) of the Act, Commerce determines that revocation of the Order would likely lead to continuation or recurrence of countervailable subsidies at the rates below:

Company | Subsidy rate (percent ad valorem)
Hefei Zijin Steel Tube Manufacturing Co | 198.49
Hefei Ziking Steel Pipe | 198.49
Panyu Chu Kong Steel Pipe Co. Ltd | 198.49
All Others | 198.49

Administrative Protective Order

This notice serves as the only reminder to parties subject to an administrative protective order (APO) of their responsibility concerning the destruction of proprietary information disclosed under APO in accordance with 19 CFR 351.305. Timely written notification of the return or destruction of APO materials or conversion to judicial protective order is hereby requested. Failure to comply with the regulations and terms of an APO is a sanctionable violation.

Notification to Interested Parties

We are issuing and publishing these final results in accordance with sections 751(c), 752(b), and 777(i)(1) of the Act and 19 CFR 351.218.

Dated: May 31, 2024.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Countervailable Subsidies

2. Net Countervailable Subsidy Rates That Are Likely To Prevail

3. Nature of the Subsidies

VII. Final Results of Sunset Review

VIII. Recommendation

[FR Doc. 2024-12409 Filed 6-5-24; 8:45 am]

BILLING CODE 3510-DS-P